DEPARTMENT OF TRANSPORTATION

Federal Aviation Administration

14 CFR Part 39

[Docket No. 2002-NM-56-AD; Amendment 39-13002; AD 2002-26-14]

RIN 2120-AA64

Airworthiness Directives; Boeing Model 767-300 Series Airplanes Modified by Supplemental Type Certificate ST01869AT-D

AGENCY: Federal Aviation Administration, DOT.

ACTION: Final rule; request for comments.

SUMMARY: This amendment adopts a new airworthiness directive (AD) that is applicable to all Boeing Model 767-300 series airplanes modified by supplemental type certificate ST01869AT-D. This action requires modifying the passenger entertainment system (PES) and revising the airplane flight manual. This action is necessary to ensure that the airplane crew is able to remove electrical power from the PES when necessary and is advised of appropriate procedures for such action. Inability to remove power from the PES during a non-normal or emergency situation could result in inability to control smoke or fumes in the airplane flight deck or cabin. This action is intended to address the identified unsafe condition.

DATES: Effective January 28, 2003.

The incorporation by reference of certain publications listed in the regulations is approved by the Director of the Federal Register as of January 28, 2003.

Comments for inclusion in the Rules Docket must be received on or before March 14, 2003.

ADDRESSES: Submit comments in triplicate to the Federal Aviation Administration (FAA), Transport Airplane Directorate, ANM-114, Attention: Rules Docket No. 2002-NM-56-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2002-NM-56-AD” in the subject line and need not be submitted in triplicate. Comments sent via the Internet as attached electronic files must be formatted in Microsoft Word 97 for Windows or ASCII text.

The service information referenced in this AD may be obtained from TIMCO Engineered Systems, Inc., 623 Radar Road, Greensboro, North Carolina 27410. This information may be examined at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

FOR FURTHER INFORMATION CONTACT: Robert Chupka, Aerospace Engineer, Systems and Flight Test Branch, ACE-116A, FAA, Atlanta Aircraft Certification Office, One Crown Center, 1895 Phoenix Boulevard, suite 450, Atlanta, Georgia 30349; telephone (770) 703-6070; fax (770) 703-6097.

SUPPLEMENTARY INFORMATION:

Discussion

The Federal Aviation Administration (FAA) recently completed a review of in-flight entertainment (IFE) systems certified by supplemental type certificate (STC) and installed on transport category airplanes. The review focused on the interface between the IFE system and airplane electrical system, with the objective of determining if any unsafe conditions exist with regard to the interface. STCs issued between 1992 and 2000 were considered for the review.

The type of IFE systems considered for review were those that contain video monitors (cathode ray tubes or liquid crystal displays; either hanging above the aisle or mounted on individual seat backs or seat trays), or complex circuitry (i.e., power supplies, electronic distribution boxes, extensive wire routing, relatively high power consumption, multiple layers of circuit protection, etc.). In addition, in-seat power supply systems that provide power to more than 20 percent of the total passenger seats were also considered for the review. The types of IFE systems not considered for review include systems that provide only audio signals to each passenger seat, ordinary in-flight telephone systems (e.g., one telephone handset per group of seats or bulkhead-mounted telephones), systems that only have a video monitor on the forward bulkhead(s) (or a projection system) to provide passengers with basic airplane and flight information, and in-seat power supply systems that provide power to less than 20 percent of the total passenger seats.

Items considered during the review include the following:

• Can the electrical bus(es) supplying power to the IFE system be deenergized when necessary without removing power from systems that may be required for continued safe flight and landing?

• Can IFE system power be removed when required without pulling IFE system circuit breakers (i.e., is there a switch (dedicated to the IFE system or a combination of loads) located in the flight deck or cabin that can be used to remove IFE power?)?

• If the IFE system requires changes to flight crew procedures, has the airplane flight manual (AFM) been properly amended?

• If the IFE system requires changes to cabin crew procedures, have they been properly amended?

• Does the IFE system require periodic or special maintenance?

In all, approximately 180 IFE systems approved by STC were reviewed by the FAA. The review results indicate that potential unsafe conditions exist on some IFE systems installed on various transport category airplanes. These conditions can be summarized as:

• Electrical bus(es) supplying power to the IFE system cannot be deenergized when necessary without removing power from systems that may be required for continued safe flight and landing.

• Power cannot be removed from the IFE system when required without pulling IFE system circuit breakers (i.e., there is no switch dedicated to the IFE system or combination of systems for the purpose of removing power).

• Installation of the IFE system has affected crew (flight crew and/or cabin crew) procedures, but the procedures have not been properly revised.

FAA's Determination

As part of its review of IFE systems, the FAA has determined that an unsafe condition exists on Boeing Model 767-300 series airplanes modified by STC ST01869AT-D. The passenger entertainment system (PES) on these airplanes is connected to an electrical bus that cannot be deactivated without also removing power from airplane systems necessary for safe flight and landing. There is no other means to remove power from the PES. Additionally, the airplane manufacturer's published flight crew and cabin crew emergency procedures do not advise the flight crew and cabin crew that power cannot be removed from the PES. This condition, if not corrected, could result in inability to remove power from the PES during a non-normal or emergency situation, and consequent inability to control smoke or fumes in the airplane flight deck or cabin.

Explanation of Relevant Service Information

The FAA has reviewed and approved TIMCO Service Bulletin TSB-767-23-005, Revision J, dated August 29, 2001; as revised by TIMCO Engineering Change Orders TSB-767-23-005, Revision J, K1, dated September 10, 2001; K2, dated September 18, 2001; and K3, dated September 28, 2001. That service bulletin describes procedures for modifying the PES by installing two new relays and additional wiring so that the power switch located in the flight compartment can be used to remove power completely from the PES. The service documents also describe procedures for installing a switch guard on the power switch for the PES. Accomplishment of the actions specified in the service bulletin is intended to adequately address the identified unsafe condition.

The FAA also has reviewed and approved TIMCO Airplane Flight Manual Supplement for Boeing B767-300, TIM-AFM-01034, Revision A, dated October 12, 2001, which revises the procedures under the heading “Electrical Smoke or Fire” in the “Emergency Procedures” section of the AFM to provide instructions for the cabin crew to remove power from the PES in an emergency.

Explanation of Requirements of the Rule

Since an unsafe condition has been identified that is likely to exist or develop on other airplanes of the same type design that may be registered in the United States at some time in the future, this AD is being issued to ensure that the airplane crew is able to remove electrical power from the PES when necessary and is advised of appropriate procedures for such action. Inability to remove power from the PES during a non-normal or emergency situation could result in inability to control smoke or fumes in the airplane flight deck or cabin. This AD requires accomplishment of the actions specified in the service bulletin described previously. This AD also would require revising procedures to be followed in the event of smoke or fire in the airplane, as contained under the heading “Electrical Smoke or Fire” in the “Emergency Procedures” section of the AFM. Accomplishment of these actions is intended to adequately address the identified unsafe condition.

In developing an appropriate compliance time for this action, the FAA considered not only the degree of urgency associated with addressing the subject unsafe condition, but the amount of time necessary to accomplish the proposed actions, and the practical aspect of accomplishing the proposed actions within an interval of time that parallels normal scheduled maintenance for the affected operators. In consideration of these factors, the FAA has determined that 18 months after the effective date of this AD represents an appropriate interval of time allowable wherein an acceptable level of safety can be maintained.

Other Relevant Rulemaking

The FAA has previously issued several ADs that address unsafe conditions and require corrective actions similar to those that will be required by this AD. These other ADs, and the airplane models and STCs to which they apply, are as follows:

Model/Series | STC Number | AD Reference
Airbus A340-211 | ST0902AC-D | AD 2001-18-01, amendment 39-12427 (66 FR 46939, September 10, 2001)
Boeing 737-300 | ST00171SE | AD 2001-14-10, amendment 39-12321 (66 FR 36455, July 12, 2001)
Boeing 737-700 | ST09100AC-D ST09104AC-D ST09105AC-D ST09106AC-D | AD 2001-14-12, amendment 39-12323 (66 FR 36452, July 12, 2001)
Boeing 747-100 and -200 | SA8622SW | AD 2001-14-11, amendment 39-12322 (66 FR 36453, July 12, 2001)
Boeing 747-100 and -200 | ST00196SE | AD 2001-16-19, amendment 39-12388 (66 FR 43068, August 17, 2001)
Boeing 747-400 | SA8843SW | AD 2001-14-15, amendment 12326 (66 FR 36447, July 12, 2001)
Boeing 747SP | ST09097AC-D | AD 2001-14-14, amendment 39-12325 (66 FR 36449, July 12, 2001)
Boeing 757-200 | SA1727GL | AD 2001-14-01, amendment 39-12311 (66 FR 36149, July 11, 2001)
Boeing 767-200 | SA4998NM | AD 2001-16-21, amendment 39-12390 (66 FR 43072, August 17, 2001)
Boeing 767-200 | SA5134NM | AD 2001-16-20, amendment 39-12389 (66 FR 43066, August 17, 2001)
Boeing 767-200 | ST09022AC-D | AD 2001-14-13, amendment 39-12324 (66 FR 36450, July 12, 2001)
Boeing 767-300 | SA5765NM SA5978NM | AD 2001-16-17, amendment 39-12386 (66 FR 42937, August 16, 2001)
Boeing 767-300 | SA7019NM-D | AD 2001-18-08, amendment 39-12434 (66 FR 46517, September 6, 2001)
Boeing 767-300 | ST00118SE | AD 2001-14-04, amendment 39-12314 (66 FR 36699, July 13, 2001)
Boeing 767-300 | ST00157SE | AD 2001-16-18, amendment 39-12387 (66 FR 43070, August 17, 2001)
McDonnell Douglas DC-9-51 and DC-9-83 | SA8026NM | AD 2001-14-02, amendment 39-12312 (66 FR 36456, July 12, 2001)
McDonnell Douglas DC-10-30 | SA8452SW | AD 2001-16-22, amendment 39-12391 (66 FR 43074, August 17, 2001)
McDonnell Douglas DC-10-30 | ST00054SE | AD 2001-13-03, amendment 39-12313 (66 FR 36150, July 11, 2001)

Cost Impact

None of the airplanes affected by this action are on the U.S. Register. All airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it would require approximately 17 work hours to accomplish the required actions, at an average labor rate of $60 per work hour. Based on these figures, the cost impact of this AD would be $1,020 per airplane.

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-56-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-26-14 Boeing: Amendment 39-13002. Docket 2002-NM-56-AD.

Applicability: Model 767-300 series airplanes modified by supplemental type certificate (STC) ST01869AT-D, certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously. To ensure that the airplane crew is able to remove electrical power from the passenger entertainment system (PES) when necessary and is advised of appropriate procedures for such action, accomplish the following:

Modification and Airplane Flight Manual Revision

(a) Within 18 months after the effective date of this AD, accomplish paragraphs (a)(1) and (a)(2) of this AD.

(1) Modify the PES system installed on the airplane according to TIMCO Service Bulletin TSB-767-23-005, Revision J, dated August 29, 2001; as revised by TIMCO Engineering Change Orders TSB-767-23-005, Revision J, K1, dated September 10, 2001; K2, dated September 18, 2001; and K3, dated September 28, 2001.

(2) Before further flight after accomplishing paragraph (a)(1) of this AD, revise the procedures under “Electrical Smoke or Fire” in the “Emergency Procedures” section of the FAA-approved airplane flight manual (AFM) to include TIMCO Airplane Flight Manual Supplement for Boeing B767-300, TIM-AFM-01034, Revision A, dated October 12, 2001. When the information in that AFM supplement has been incorporated into the FAA-approved general revisions of the AFM, the general revisions may be incorporated into the AFM, and the AFM supplement may be removed from the AFM.

Part Installation

(b) As of the effective date of this AD, no person may install a PES on any airplane according to STC ST01869AT-D, unless the PES is modified and the AFM is revised according to this AD.

Alternative Methods of Compliance

(c) An alternative method of compliance or adjustment of the compliance time that provides an acceptable level of safety may be used if approved by the Manager, Atlanta Aircraft Certification Office (ACO), FAA. Operators shall submit their requests through an appropriate FAA Principal Maintenance Inspector, who may add comments and then send it to the Manager, Atlanta ACO.

Note 2: Information concerning the existence of approved alternative methods of compliance with this AD, if any, may be obtained from the Atlanta ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with TIMCO Service Bulletin TSB-767-23-005, Revision J, dated August 29, 2001; as revised by TIMCO Engineering Change Order TSB-767-23-005, Revision J, K1, dated September 10, 2001; TIMCO Engineering Change Order TSB-767-23-005, Revision J, K2, dated September 18, 2001; and TIMCO Engineering Change Order TSB-767-23-005, Revision J, K3, dated September 28, 2001; and TIMCO Airplane Flight Manual Supplement for Boeing B767-300, TIM-AFM-01034, Revision A, dated October 12, 2001; as applicable. TIMCO Service Bulletin TSB-767-23-005, Revision J, dated August 29, 2001, includes the following effective pages:

Page number | Revision letter shown on page | Date shown on page
1-25 | J | August 29, 2001.
Engineering Change Order TSB-767-23-005, K1
1-9 | J | September 10, 2001.
Engineering Change Order TSB-767-23-005, K2
1-9 | J | September 18, 2001.
Engineering Change Order TSB-767-23-005, K3
1-2 | J | September 28, 2001.

(Only the title page of the service bulletin and the first page of the Engineering Change Orders contain the issue date of those documents; no other page of those documents contains this information.) This incorporation by reference was approved by the Director of the Federal Register in accordance with 5 U.S.C. 552(a) and 1 CFR part 51. Copies may be obtained from TIMCO Engineered Systems, Inc., 623 Radar Road, Greensboro, North Carolina 27410. Copies may be inspected at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

Effective Date

(f) This amendment becomes effective on January 28, 2003.

Issued in Renton, Washington, on December 27, 2002.
Vi L. Lipski,
Manager, Transport Airplane Directorate, Aircraft Certification Service.

[FR Doc. 03-50 Filed 1-10-03; 8:45 am]

BILLING CODE 4910-13-U